DEPARTMENT OF COMMERCE

Submission for OMB Review; Comment Request

DOC has submitted to the Office of Management and Budget (OMB) for clearance the following proposal for collection of information under the provisions of the Paperwork Reduction Act (44 U.S.C. chapter 35).

Agency: U.S. Census Bureau.

Title: Information and Communication Technology Survey.

Form Number(s): ICT-1(S), ICT-1(M), ICT-1(Long).

Agency Approval Number: 0607-0909.

Type of Request: Revision of a currently approved collection.

Burden: 79,903 hours.

Number of Respondents: 46,000.

Average Hours Per Response: ICT-1(S)—1 hour and 4 minutes, ICT-1(M)—2 hours and 8 minutes, ICT-1(Long)—21 hours.

Needs and Uses: A concern for economic policymakers is the lack of available data related to e-business infrastructure investment. Such data is critical for evaluating productivity growth, changes in industrial capacity, measures of economic performance, and current economic developments. Rapid changes and advances in Information and Communication Technology (ICT) equipment have resulted in these assets having short useful lives and a tendency to be replaced much quicker than other types of equipment. Companies are expensing the full cost of such assets during the current annual period rather than capitalizing the value of such assets and expensing the cost over two or more years. In some cases this is due to the short useful life of the asset, and in other cases this is because companies have varying dollar levels for capitalization.

The Annual Capital Expenditures Survey (ACES) (OMB Project 0607-0782) currently collects annual data on business capital expenditures and detailed types of structures and equipment data every five years. This infrequent collection of types of structures and equipment detail and the fact that the ACES does not include non-capitalized expenditures for e-business infrastructure investment creates serious data gaps.

As a result, the Information and Communication Technology Survey (ICTS) was developed as a supplement to the ACES. For the ICTS, we use the ACES sampling, follow-up and estimation methodologies including mailing to the same employer companies as the ACES. This data collection supplements the current source of comprehensive statistics on business investment in equipment and software for private nonfarm businesses in the United States. The ICTS is an important part of the Federal Government statistical program to improve and supplement ongoing statistical programs.

This request is for a revision of a currently approved collection and covers the 2004 through 2006 Information and Communication Technology Survey. Major revisions from the previous ICTS are the collection of capital expenditures data for the four types of ICT equipment and software cited below, and the incorporation of the 2002 North American Industry Classification System (NAICS) into the ICTS. Capital expenditures data will only be collected for computers and peripheral equipment; ICT equipment, excluding computers and peripherals; electromedical and electrotherapeutic apparatus; and, computer software, including payroll associated with software development. These capitalized data will be collected annually on the ICTS, except when collected in the ACES once every five years. Beginning with the 2004 ICTS, we will publish data based on the 2002 NAICS. We will collect and publish data for approximately 136 industries. This is an increase of four industries from the 1997 NAICS.

The plan for the continued survey is to collect industry-level capital expenditures and non-capitalized expenses (purchases, and operating leases and rental payments) for the four types of ICT equipment and software mentioned above. This collection is intended to represent total business spending for ICT equipment by all employer firms and provide comprehensive control estimates for each type of equipment and software by industry. Companies that operate in only one industry receive an ICT-1(S) form. These companies are not asked to report ICT expenditures by industry which eliminates the need for respondent industry coding. Companies that operate in more than one but less than nine industries receive an ICT-1(M) form. And, companies that operate in nine or more industries receive an ICT-1(L) form.

Affected Public: Business or other for-profit, Not-for-profit institutions.

Frequency: Annually.

Respondent's Obligation: Mandatory.

Legal Authority: Title 13 U.S.C., Sections 182, 224, and 225.

OMB Desk Officer: Susan Schechter, (202) 395-5103.

Copies of the above information collection proposal can be obtained by calling or writing Diana Hynek, Departmental Paperwork Clearance Officer, (202) 482-0266, Department of Commerce, room 6625, 14th and Constitution Avenue, NW., Washington, DC 20230 (or via the Internet at dhynek@doc.gov).

Written comments and recommendations for the proposed information collection should be sent within 30 days of publication of this notice to Susan Schechter, OMB Desk Officer either by fax (202-395-7245) or e-mail (susan_schechter@omb.eop.gov).

Dated: December 13, 2004.
Madeleine Clayton,
Management Analyst, Office of the Chief Information Officer.

[FR Doc. 04-27585 Filed 12-16-04; 8:45 am]

BILLING CODE 3510-07-P